DEPARTMENT OF HEALTH AND HUMAN SERVICES

Centers for Disease Control and Prevention

Needs and Challenges in Personal Protective Equipment (PPE) Use for Underserved User Populations

AGENCY: National Institute for Occupational Safety and Health (NIOSH) of the Centers for Disease Control and Prevention (CDC), Department of Health and Human Services (HHS).

ACTION: Request for information.

SUMMARY: NIOSH requests information on the Needs and Challenges in Personal Protective Equipment (PPE) Use for Underserved User Populations.

DATES: Submit a letter of information by August 23, 2021.

ADDRESSES: Interested parties should submit information to: NIOSH, Attn: Sherri Diana, National Institute for Occupational Safety and Health, NIOSH Docket Office, 1090 Tusculum Avenue, MS C-34, Cincinnati, Ohio 45226-1998, Email address: ppeconcerns@cdc.gov.

FOR FURTHER INFORMATION CONTACT: N. Katherine Yoon, Ph.D., National Institute for Occupational Safety and Health, Centers for Disease Control and Prevention, Email Address: NYoon@cdc.gov, Phone number: 412-386-6752 [non-toll-free number]

SUPPLEMENTARY INFORMATION: Background: The NIOSH National Personal Protective Technology Laboratory (NPPTL) is expanding its portfolio to include activities that consider the needs of U.S. worker populations who are underserved related to personal protective equipment (PPE) use, availability, accessibility, acceptability, or knowledge. Underserved PPE user populations may include, but are not limited to, workers who are of an atypical size; who are members of a gender, racial, ethnic, or linguistic minority group; who conduct non-traditional worker activities; or who are members of sub-disciplines that are not the primary focus of the current PPE activities within their larger field. To inform the possible design and execution of these activities, NPPTL seeks information from the public, including individuals/organizations who/that (1) advocate for these worker populations, (2) actively conduct PPE research, services, or policymaking for these worker populations, (3) are planning to conduct PPE research, services, or policymaking for these worker populations, (4) have direct knowledge about research, service, or policy gaps affecting these worker populations, or (5) are current or former PPE users that experienced PPE use, availability, accessibility, acceptability, or knowledge issues.

Information Needs: CDC is particularly interested in receiving information being sought in Request (1). As such, responders are requested to provide information responsive to Request (1), and may address any or all of the topics identified in Requests (2) and (3):

Request (1) Describe respondent(s)

i. Individual or company/institution name, location, and website (if any)

ii. Individual or company/institution contact information (include the respondent's role in the organization, address, phone number, and email address)

iii. The primary motivation(s) for why you (or your organization) are responding to this Notice

iv. Any additional relevant background information about yourself or your organization as well as names of any other organizations currently working in applicable issues

Request (2) Describe your experiences related to PPE use, availability, accessibility, acceptability, and knowledge issues for underserved PPE user populations within the U.S. (e.g., individuals of small or large size; members of gender, racial, ethnic or other minority group of a specific occupation, non-traditional workers, etc.)

i. What experiences have you had in recent years related to PPE use, availability, accessibility, acceptability, and knowledge issues for underserved PPE user populations? Also, specify and describe the underserved PPE user group(s) with which you have had experience.

ii. What data/information/resources did you find to be the most relevant/valuable to the experiences described in Request 2(i)?

iii. How long have you or your organization been working in the areas of work identified in Request 2(i)? Did your or your organization's involvement change over time, and if so, how and why?

iv. What achievements were a result of your work in PPE use, availability, accessibility, acceptability, and knowledge for underserved PPE user populations? (e.g., publications, guidance, new/revised policies or procedures, establishment of a key committee)

v. What is your future work plan on PPE use, availability, accessibility, and knowledge for underserved PPE user populations?

Request (3) Describe PPE gaps/barriers that remain to be addressed for underserved PPE user populations within the U.S. related to PPE use, availability, accessibility, acceptability, and knowledge issues (if any)

i. What research gaps/barriers remain to be addressed?

ii. What service gaps/barriers remain to be addressed?

iii. What policy gaps/barriers remain to be addressed?

Informational submissions in response to this Notice are due no later than August 23, 2021. Please limit informational submission to three pages or less in 12-point font, single-spaced. NIOSH will not respond to individual informational submissions nor publish publicly a compendium of responses. An informational submission in response to this Notice does not create any commitment on or behalf of CDC or HHS to develop or pursue any program or ideas discussed herein or related to PPE use for underserved user populations more generally.

Disclaimer and Important Notes

This Federal Register Notice is for planning purposes; it does not constitute a formal announcement for comprehensive applications. In accordance with Federal Acquisition Regulation 48 CFR 15.201(e), responses to this Notice are not offers and cannot be accepted by the Government to form a binding award. NIOSH will not provide reimbursement for costs incurred in responding to this Notice.

John J. Howard,
Director, National Institute for Occupational Safety and Health, Centers for Disease Control and Prevention.

[FR Doc. 2021-13263 Filed 6-23-21; 8:45 am]

BILLING CODE 4163-19-P